DEPARTMENT OF HEALTH AND HUMAN SERVICES

Health Resources and Services Administration

Health Center Program

AGENCY: Health Resources and Services Administration, HHS.

ACTION: Notice of Noncompetitive Replacement Awards to Sunset Park Health Council, Inc.

SUMMARY: The Health Resources and Services Administration (HRSA) will transfer the remaining American Recovery and Reinvestment Act (ARRA) Capital Improvement Project (CIP) from Saint Vincent's Catholic Medical Centers (SVCMC) of New York, current grantee of record, to Sunset Park Health Council (SPHC), Inc. in order to continue primary health care services to low-income, underserved homeless patients in New York City.

SUPPLEMENTARY INFORMATION: Former Grantee of Record: Saint Vincent's Catholic Medical Centers of New York.

Original Period of Grant Support: ARRA CIP Funds—June 29, 2009, to June 28, 2011.

Replacement Awardee: Sunset Park Health Council, Inc.

Amount of Replacement Award: $515,385

Period of Replacement Award: The period of support for this award is February 18, 2011, to June 28, 2011.

Authority: Section 330(h) of the Public Health Service Act, 42 U.S.C. 245b.

CDFA Number: 93.703

Justification for the Exception to Competition: The former grantee, Saint Vincent's Catholic Medical Centers of New York, relinquished all grants due to financial difficulties resulting in bankruptcy and closure of facilities and programs. HRSA announced a fiscal year 2011 Service Area Competition (SAC) opportunity for the Section 330(h) project and funds. Sunset Park Health Council, Inc. has been awarded the Section 330(h) project and funds resulting from the fiscal year 2011 SAC opportunity. SPHC will be awarded the remaining CIP funds, and will implement and carry out grant activities originally proposed under SVCMC funded ARRA grant applications. These activities include installation and upgrade of computer equipment, a roll out of an electronic medical record, and the purchase and use of a mobile medical van.

SPHC is an experienced provider of care and has a demonstrated record of compliance with Health Center Program statutory and regulatory requirements and is located in the same geographical area. The transfer of the ARRA Capital Improvement Project funds will ensure that critical primary health care services continue and remain available to the low-income, underserved homeless patients with no interruption in services to the target population.

FOR FURTHER INFORMATION CONTACT: Marquita Cullom-Scott via e-mail at MCullom-Scott@hrsa.gov or 301-594-4300.

Dated: March 23, 2011.
Mary K. Wakefield,
Administrator.

[FR Doc. 2011-7248 Filed 3-25-11; 8:45 am]

BILLING CODE 4165-15-P